DEPARTMENT OF THE INTERIOR

Bureau of Reclamation

Agency Information Collection Activities Under OMB Review; Comment Request

AGENCY: Bureau of Reclamation, Interior.

ACTION: Notice of renewal of currently approved collection (OMB No. 1006-0005).

SUMMARY: In accordance with the Paperwork Reduction Act of 1995 (44 U.S.C. 3501 et seq.), this notice announces the following Information Collection Request (ICR) has been forwarded to the Office of Management and Budget (OMB) for review and comment: Individual Landholder's and Farm Operator's Certification and Reporting Forms for Acreage Limitation, 43 CFR part 426 and 43 CFR part 428, OMB Control Number: 1006-0005. The ICR describes the nature of the information collection and its expected cost and burden.

DATES: Your comments must be received on or before June 4, 2001.

ADDRESSES: You may send comments regarding the burden estimate, or any other aspect of the information collection, including suggestions for reducing the burden, to the Office of Information and Regulatory Affairs, Office of Management and Budget, Attention: Desk Officer for the Department of the Interior, 725 17th Street, NW., Washington DC 20503. A copy of your comments should also be directed to the Bureau of Reclamation, Attention: D-5200, PO Box 25007, Denver, CO 80225-0007.

FOR FURTHER INFORMATION CONTACT: For further information or a copy of the proposed forms contact Stephanie McPhee, D-5200, PO Box 25007, Denver, CO 80225-0007; or by telephone: (303) 445-2897.

SUPPLEMENTARY INFORMATION: Title: Individual Landholder's and Farm Operator's Certification and Reporting Forms for Acreage Limitation, 43 CFR part 426 and 43 CFR part 428.

Abstract: This information collection requires certain landholders (direct or indirect landowners or lessees) and farm operators to complete forms demonstrating their compliance with the acreage limitation provisions of Federal reclamation law. These forms establish each landholder's status with respect to landownership limitations, full-cost pricing thresholds, lease requirements, and other provisions of Federal reclamation law. In addition, forms are submitted by certain farm operators to provide information concerning the services they provide and the nature of their farm operating arrangements.

All landholders whose entire westwide landholdings total 40 acres or less are exempt from the requirement to submit Reclamation Reform Act of 1982 (RRA) forms. Landholders who are “qualified recipients” have RRA forms submittal thresholds of 80 acres or 240 acres depending on the district's RRA forms submittal threshold category where the land is held. Only farm operators who provide multiple services to more than 960 acres held in trusts or by legal entities are required to submit forms. This collection of information allows the Bureau of Reclamation (we, our, or us) to establish landholders' compliance with Federal reclamation law.

Changes to the RRA Forms and the Instructions to Those Forms

We made some changes to the current RRA forms and the instructions to those forms that are designed to increase the respondents' understanding of the forms, instructions to the forms, and what information is required to be submitted with the forms to the districts. These changes, as detailed in the ICR, include those resulting from the 60-day comment period initiated by the notice published in the Federal Register on January 3, 2001 (66 FR 383, Jan. 3, 2001). All other changes that were made are editorial or typographical in nature, and are designed to increase the clarity and correctness of the forms. The proposed revisions to the RRA forms will be included starting in the 2002 water year.

Frequency: Annually.

Respondents: Landholders and farm operators of certain lands in Bureau of Reclamation projects, whose landholdings exceed specified RRA forms submittal thresholds.

Estimated Total Number of Respondents: 19,202.

Estimated Number of Responses per Respondent: 1.02.

Estimated Total Number of Annual Responses: 19,586.

Estimated Total Annual Burden on Respondents: 14,829 hours.

Estimate of Burden for Each Form:

Form No. | Estimated No. of respondents | Frequency of response | Total annual responses | Burden estimate per form (in minutes) | Total burden hours
Form 7-2180 | 5,358 | 1.02 | 5,465 | 60 | −5,465
Form 7-2180EZ | 537 | 1.02 | 548 | 45 | 411
Form 7-2181 | 1,758 | 1.02 | 1,793 | 78 | 2,331
Form 7-2184 | 40 | 1.02 | 41 | 45 | 31
Form 7-2190 | 1,910 | 1.02 | 1,948 | 60 | 1,948
Form 7-2190EZ | 113 | 1.02 | 115 | 45 | 86
Form 7-2191 | 891 | 1.02 | 909 | 78 | 1,182
Form 7-2194 | 4 | 1.02 | 4 | 45 | 3
Form 7-21PE | 205 | 1.02 | 209 | 66 | 230
Form 7-21TRUST | 1,331 | 1.02 | 1,358 | 60 | 1,358
Form 7-21VERIFY | 6,452 | 1.02 | 6,581 | 12 | 1,316
Form 7-21FC | 243 | 1.02 | 248 | 30 | 124
Form 7-21XS | 164 | 1.02 | 167 | 30 | 84
Form 7-21FARMOP | 196 | 1.02 | 200 | 78 | 260
Total | 19,202 | 1.02 | 19,586 |  | 14,829

Comments

Comments are invited on:

(a) Whether the proposed collection of information is necessary for the proper performance of our functions, including whether the information will have practical use;

(b) The accuracy of our burden estimate for the proposed collection of information;

(c) Ways to enhance the quality, usefulness, and clarity of the information to be collected; and

(d) Ways to minimize the burden of the collection of information on respondents, including the use of automated collection techniques or other forms of information technology.

An agency may not conduct or sponsor, and a person is not required to respond to a collection of information unless it displays a currently valid OMB control number. Reclamation will display a valid OMB control number on the RRA forms. A Federal Register notice with a 60-day comment period soliciting comments on this collection of information was published in the Federal Register on January 3, 2001 (66 FR 383, Jan. 3, 2001). A list of the comments received and our responses to those comments will be sent to: (1) all districts, (2) all commenters, and (3) OMB with this ICR; it is also available from us upon request.

OMB has up to 60 days to approve or disapprove this information collection, but may respond after 30 days; therefore, public comment should be submitted to OMB within 30 days in order to assure maximum consideration.

Dated: April 27, 2001.
Wayne O. Deason,
Associate Director, Office of Policy.

[FR Doc. 01-11193 Filed 5-3-01; 8:45 am]

BILLING CODE 4310-MN-P